DEPARTMENT OF COMMERCE

National Oceanic and Atmospheric Administration

RIN 0648-XG180

North Pacific Fishery Management Council; Public Meeting

AGENCY: National Marine Fisheries Service (NMFS), National Oceanic and Atmospheric Administration (NOAA), Commerce.

ACTION: Notice of a public meeting.

SUMMARY: The North Pacific Fishery Management Council (Council) Social Science Planning Team will meet May 8, 2018 through May 9, 2018.

DATES: The meeting will be held on Tuesday, May 8, 2018 through Wednesday, May 9, 2018, from 9 a.m. to 5 p.m.

ADDRESSES: The meeting will be held at the Hilton Hotel in the Birch/Willow Room, 500 W 3rd Ave., Anchorage, AK 99501.

Council address: North Pacific Fishery Management Council, 605 W 4th Ave., Suite 306, Anchorage, AK 99501-2252; telephone: (907) 271-2809.

FOR FURTHER INFORMATION CONTACT: Sarah Marrinan, Council staff; telephone: (907) 271-2809.

SUPPLEMENTARY INFORMATION:

Agenda

Tuesday, May 8, 2018 Through Wednesday, May 9, 2018

The meeting agenda includes review and presentation on existing socio-economic data and information sources that can inform fisheries management in Federal fisheries off of Alaska. This will include a discussion of the availability of subsistence information, use of existing data collections (such as Economic Data Reports), and the Alaska Fishery Science Center skipper survey, and current Alaska Fishery Science Center funding proposals.

The team will also discuss data gaps and consider long term strategies for prioritizing and filling these data gaps. This part of the agenda will include a presentation of a socio-economic gap analysis, discussion of past critiques from the Council's Scientific and Statistical Committee on information deficiencies in Council documents, discussion of current Council informational needs, and a facilitated discussion of the role of Local and Traditional Knowledge/Traditional Ecological Knowledge and citizen science information into science and management.

The Agenda is subject to change, and the latest version will be posted at https://www.npfmc.org/committees/social-science-planning-team/

Public Comment

Public comment letters will be accepted and should be submitted either electronically to Sarah Marrinan, Council staff: sarah.marrinan@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 19, 2018.
Tracey L. Thompson,
Acting Deputy Director, Office of Sustainable Fisheries, National Marine Fisheries Service.

[FR Doc. 2018-08497 Filed 4-23-18; 8:45 am]

BILLING CODE 3510-22-P